FEDERAL RESERVE SYSTEM

Privacy Act of 1974; System of Records

AGENCY: Board of Governors of the Federal Reserve System.

ACTION: Final notice of a modified system of records.

SUMMARY: The Board has adopted as final, without change, the new system of records titled BGFRS-40, “FRB—Board Subscription Services.”

DATES: Applicable September 17, 2019.

FOR FURTHER INFORMATION CONTACT: David B. Husband, Senior Attorney, (202) 530-6270, or david.b.husband@frb.gov; Legal Division, Board of Governors of the Federal Reserve System, 20th Street and Constitution Avenue NW, Washington, DC 20551.

SUPPLEMENTARY INFORMATION: The Board published a system of record notice in the Federal Register at 84 FR 28300 on June 18, 2019, to modify the system of records, entitled BGFRS-40, “FRB—Board Subscription Services.” BGFRS-40 maintains subscription-related information regarding individuals who subscribe to Board publications. The Board received one public comment on the notice, which concerned the commenter's own records related to long-term securities. The comment was not about the Board's Subscription Services and thus is not germane to the proposed notice. Accordingly, the Board adopts as final the system of records entitled BGFRS-40, “FRB—Board Subscription Services” as previously published in 84 FR 28300 without change.

Board of Governors of the Federal Reserve System, September 12, 2019.
Ann Misback,
Secretary of the Board.

[FR Doc. 2019-20068 Filed 9-16-19; 8:45 am]

BILLING CODE 6210-01-P